DEPARTMENT OF ENERGY

Federal Energy Regulatory Commission

[Docket No. RP02-71-000]

Midwestern Gas Transmission Company; Notice of Tariff Filing

December 5, 2001.

Take notice that on November 30, 2001, Midwestern Gas Transmission Company (Midwestern ) tendered for filing to become part of Midwestern's FERC Gas Tariff, Third Revised Volume No. 1, First Revised Sheet No. 5, to become effective January 1, 2002.

Midwestern states that the purpose of this compliance tariff filing is to reflect the GRI surcharge amounts as follows: (1) A commodity surcharge of .55 cents per Dth, (2) a high load factor demand surcharge of 6.6 cents per Dth, (3) a low load factor demand surcharge of 4.07 cents per Dth, and (4) a small customer surcharge of .88 cents per Dth. This filing was made in compliance with the Commission's letter order dated September 19, 2001 in Docket No. RP01-434-000.

Midwestern states that copies of this filing have been sent to all of Midwesterns contracted shippers and interested state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30564 Filed 12-10-01; 8:45 am]

BILLING CODE 6717-01-P